DEPARTMENT OF DEFENSE

Office of the Secretary

Defense Science Board

AGENCY: Department of Defense.

ACTION: Notice of Advisory Committee Meeting.

SUMMARY: The Defense Science Board Task Force on Identifying and Sustaining U.S. Department of Defense/UK Ministry of Defence Defense Critical Technologies (Study) will meet in closed session on April 1, 2005, at Strategic Analysis, Inc., 3601 Wilson Boulevard, Arlington, VA. This Task Force will develop a methodology to identify unique defense technologies as well as commercially developed technologies needing augmentation to fulfill defense niche areas, and then apply the methodology to develop a list of defense critical technologies.

The mission of the Defense Science Board is to advise the Secretary of Defense and the Under Secretary of Defense for Acquisition, Technology & Logistics on scientific and technical matters as they affect the perceived needs of the Department of Defense. At these meetings, the Defense Science Board Task Force should focus its effort on high leverage, differentiated and transformational technologies. The Study may then use this list of defense critical technologies to further assess the tools available to the U.S. DoD or UK MoD to develop its critical technology needs. Some of the considerations the Study should examine include mechanisms to develop niches in pre-existing technologies, foster new technology until the commercial marketplace takes over, or develop technology without any expectation of commercial development; the analysis should include a review of the applicable acquisition/business case. Finally, the Study should consider the impact of technology development in other countries and the implications that this may have on Anglo-U.S. unique needs.

In accordance with Section 10(d) of the Federal Advisory Committee Act, Public Law 92-463, as amended (5 U.S.C. App. 2), it has been determined that these Defense Science Board Task Force meetings concern matters listed in 5 U.S.C. 552b(c)(1) and that, accordingly, these meetings will be closed to the public.

Dated: February 25, 2005.
Jeannette Owings-Ballard,
OSD Federal Register Liaison Officer, Department of Defense.

[FR Doc. 05-4034 Filed 3-1-05; 8:45 am]

BILLING CODE 5001-06-M